ENVIRONMENTAL PROTECTION AGENCY

[EPA-HQ-OPPT-2010-0572; FRL-9099-01-OCSPP]

Agency Information Collection Activities; Proposed Renewal of an Existing ICR Collection and Request for Comment; Chemical-Specific Rules Under the Toxic Substances Control Act; Certain Nanoscale Materials

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Chemical-Specific Rules under the Toxic Substances Control Act (TSCA) Section 8(a); Certain Nanoscale Materials,” identified by EPA ICR No. 2517.04 and OMB Control No. 2070-0194. This ICR represents the renewal of an existing ICR that is currently approved through September 30, 2024. Before submitting the ICR to OMB for review and approval under the PRA, EPA is soliciting comments on specific aspects of the information collection that is summarized in this document. The ICR and accompanying material are available in the docket for public review and comment.

DATES: Comments must be received on or before April 1, 2024.

ADDRESSES: Submit your comments, identified by docket identification (ID) number EPA-HQ-OPPT-2010-0572, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Chemical-Specific Rules under the Toxic Substances Control Act Section 8(a); Certain Nanoscale Materials.

EPA ICR No.: 2517.04.

OMB Control No.: 2070-0194.

ICR status: This ICR is currently approved through September 30, 2024. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This information collection request (ICR) covers reporting and recordkeeping requirements for persons who manufacture or process chemical substances as nanoscale materials under the authority of section 8(a) of the Toxic Substances Control Act (TSCA) and implementing regulations in 40 CFR part 704.20.

Burden statement: The annual public reporting and recordkeeping burden for this collection of information is estimated to average 107.5 hours per response. Burden is defined in 5 CFR 1320.3(b).

The ICR, which is available in the docket along with other related materials, provides a detailed explanation of the collection activities and the burden estimate that is only briefly summarized here:

Respondents/affected entities: Entities potentially affected are those that manufacture or process chemical substances as nanoscale materials and is related to a final rule issued under the authority of section 8(a) of the Toxic Substances Control Act (TSCA). The following North American Industrial Classification System (NAICS) codes have been provided to assist in determining whether this action might apply to certain entities:

• 325 Chemical Manufacturers and Processors;

• 325130 Synthetic Dye and Pigment Manufacturing;

• 324110 Petroleum Refineries;

• 325180 Other Basic Inorganic Chemical Manufacturing;

• 331221 Rolled Steel Shape Manufacturing;

• 334413 Semiconductor and Related Device Manufacturing;

• 335991 Carbon and Graphite Product Manufacturing;

• 423220 Home Furnishing Merchant Wholesalers;

• 423330 Roofing, Sliding, and Insulation Material Merchant Wholesalers; and

• 423510 Metal Service Centers and Other Metal Merchant Wholesalers.

Respondent's obligation to respond: Mandatory. TSCA section 8(a) and 40 CFR 704.20.

Forms: EPA Form 9600-07.

Frequency of response: Occasional.

Total estimated number of potential respondents: 9.

Total estimated average number of responses for each respondent: 1.7.

Total estimated annual burden hours: 961 hours.

Total estimated annual costs: $69,197, which includes an estimated cost of $0 for capital investment or maintenance and operational costs.

III. Are there changes in the estimates from the last approval?

There is a decrease of 39,128 hours in the total estimated respondent burden compared with that identified in the ICR currently approved by OMB. This decrease reflects EPA's adjustments in the estimation methodology of the costs and burden. The adjustments made to the estimation methodology include:

• Burden estimates based on expected submissions, not on actual submissions received by the Agency, while the reporting covered in this period is based on actual submissions received by the Agency. This significant change accounts for the almost all the decrease in burden and cost estimates.

• Burden estimates estimated separately for manufactures and processors, while the reporting covered in this period calculates a weighted burden for any given respondent without separating the manufacturers from the processors. This approach was deemed reasonable given that the Agency received only 27 submissions related to TSCA 8(a) nanomaterials in the three-year ICR period.

In addition, OMB has requested that EPA adopt the 18-question format for ICR Supporting Statements that is used by other federal agencies and departments which is based on the submission instructions established by OMB, replacing the alternate format that has been used by EPA. Although this Supporting Statement has been modified to reflect the 18-question format, the change in format has not changed the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: January 26, 2024.
Michal Freedhoff,
Assistant Administrator, Office of Chemical Safety and Pollution Prevention.

[FR Doc. 2024-01945 Filed 1-31-24; 8:45 am]

BILLING CODE 6560-50-P